DEPARTMENT OF DEFENSE

Office of the Secretary

Meeting of the Defense Department Advisory Committee on Women in the Services (DACOWITS)

AGENCY: Department of Defense.

ACTION: Notice.

SUMMARY: Pursuant to section 10(a), Public Law 92-463, as amended, notice is hereby given of a forthcoming meeting of the Defense Department Advisory Committee on Women in the Services (DACOWITS). The purpose of the Committee meeting is to discuss the 2005 DACOWITS Report. The meeting is open to the public, subject to the availability of space.

Interested persons may submit a written statement for consideration by the Committee and make an oral presentation of such. Persons desiring to make an oral presentation or submit a written statement to the Committee must notify the point of contact listed below no later than 5 p.m., 31 October 2005. Oral presentations by members of the public will be permitted only on Monday, 7 November 2005 from 4:45 p.m. to 5 p.m. before the full Committee. Presentations will be limited to two minutes. Number of oral presentations to be made will depend on the number of requests received from members of the public. Each person desiring to make an oral presentation must provide the point of contact listed below with one (1) copy of the presentation by 5 p.m., 31 October 2005 and bring 35 copies of any material that is intended for distribution at the meeting. Persons submitting written statement must submit 35 copies of the statement to the DACOWIS staff by 5 p.m. on 31 October 2005.

DATES: 7 November 2005, 8:30 a.m.-5 p.m., 8 November 2005, 8:30 a.m.-5 p.m.

Location: Embassy Suite Crystal City National Airport, 1300 Jefferson Davis Hwy, Arlington, VA 22202.

FOR FURTHER INFORMATION CONTACT: MAJ Kimberly Venable, USA DACOWITS, 4000 Defense Pentagon, Room 2C548A, Washington, DC 20301-4000. Telephone (703) 697-2122. Fax (703) 614-6233.

SUPPLEMENTARY INFORMATION: Meeting agenda.

Monday, 7 November 2005 8:30 a.m.-5 p.m.

Welcome and Administrative Remarks

Review and Vote on 2005 DACOWITS Report Recommendations

Public Forum

Tuesday, 8 November 2005 8:30 a.m.-5 p.m.

Welcome and Administrative Remarks

Review and Vote on 2005 DACOWITS Report Recommendations

Note: Exact order may vary.

Dated: October 28, 2005.
L.M. Bynum,
Alternate OSD Federal Register Liaison Officer, DoD.

[FR Doc. 05-21919 Filed 11-2-05; 8:45 am]

BILLING CODE 5001-06-M